SECURITIES AND EXCHANGE COMMISSION

[File No. 500-1]

In the Matter of Digital Video Systems, Inc., Geocom Resources, Inc., and GoldMountain Exploration Corp., and Real Data, Inc. (a/k/a Galtech Semiconductor Materials Corporation)

February 22, 2013.

Order of Suspension of Trading

It appears to the Securities and Exchange Commission that there is a lack of current and accurate information concerning the securities of Digital Video Systems, Inc. because it has not filed any periodic reports since the period ended September 30, 2005.

It appears to the Securities and Exchange Commission that there is a lack of current and accurate information concerning the securities of Geocom Resources, Inc. because it has not filed any periodic reports since the period ended March 30, 2009.

It appears to the Securities and Exchange Commission that there is a lack of current and accurate information concerning the securities of GoldMountain Exploration Corp. because it has not filed any periodic reports since the period ended December 31, 2007.

It appears to the Securities and Exchange Commission that there is a lack of current and accurate information concerning the securities of Real Data, Inc. (a/k/a Galtech Semiconductor Materials Corporation), because it has not filed any periodic reports since the period ended December 31, 2004.

The Commission is of the opinion that the public interest and the protection of investors require a suspension of trading in the securities of the above-listed companies. Therefore, it is ordered, pursuant to Section 12(k) of the Securities Exchange Act of 1934, that trading in the securities of the above-listed companies is suspended for the period from 9:30 a.m. EST on February 22, 2013, through 11:59 p.m. EST on March 7, 2013.

By the Commission.
Jill M. Peterson,
Assistant Secretary.

[FR Doc. 2013-04506 Filed 2-22-13; 11:15 am]

BILLING CODE 8011-01-P